DEPARTMENT OF ENERGY

Federal Energy Regulatory Commission

[Project No. 14540-000; Project No. 14539-000]

Western Minnesota Municipal Power Agency; Lock+ Hydro Friends Fund III, LLC; Notice Announcing Filing Priority for Preliminary Permit Applications

On November 25, 2013, the Commission held a drawing to determine priority between competing preliminary permit applications with identical filing times. In the event that the Commission concludes that neither of the applicants' plans is better adapted than the other to develop, conserve, and utilize in the public interest the water resources of the region at issue, the priority established by this drawing will serve as the tiebreaker. Based on the drawing, the order of priority is as follows:

1. Western Minnesota Municipal Power Agency Project No. 14540-000

2. Lock+ Hydro Friends Fund III, LLC Project No. 14539-000

Dated: November 26, 2013.
Nathaniel J. Davis, Sr.,
Deputy Secretary.

[FR Doc. 2013-28926 Filed 12-3-13; 8:45 am]

BILLING CODE 6717-01-P